DEPARTMENT OF ENERGY

Federal Energy Regulatory Commission

[Project No. 7883-019]

Powerhouse Systems, Inc.; Notice of Intent To File License Application, Filing of Pre-Application Document, and Approving Use of the Traditional Licensing Process

a. Type of Filing: Notice of Intent to File License Application and Request to Use the Traditional Licensing Process.

b. Project No.: 7883-019.

c. Date Filed: September 11, 2020.

d. Submitted By: Powerhouse Systems, Inc. (Powerhouse).

e. Name of Project: Weston Dam Project.

f. Location: On the Upper Ammonoosuc River in Coos County, New Hampshire. No federal lands are occupied by the project works or located within the project boundary.

g. Filed Pursuant to: 18 CFR 5.3 and 5.5 of the Commission's regulations.

h. Potential Applicant Contact: Deborah A. Allen, Powerhouse Systems, Inc., 1 Middle St., Suite 303, Lancaster, NH 03584; (603) 991-7757; email at WestonDam.FERCrelicensing@gmail.com.

i. FERC Contact: John Baummer at (202) 502-6827; or email at john.baummer@ferc.gov.

j. Powerhouse filed its request to use the Traditional Licensing Process on September 11, 2020, and provided public notice of its request on November 18, 2020. In a letter dated December 23, 2020, the Director of the Division of Hydropower Licensing approved Powerhouse's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the New Hampshire State Historic Preservation Officer, as required by section 106 of the National Historic Preservation Act, and the implementing regulations of the Advisory Council on Historic Preservation at 36 CFR 800.2.

l. On September 11, 2020, Powerhouse filed a Pre-Application Document (PAD; including a proposed process plan and schedule) with the Commission, pursuant to 18 CFR 5.6 of the Commission's regulations.

m. A copy of the PAD may be viewed and/or printed on the Commission's website (http://www.ferc.gov), using the eLibrary link. Enter the docket number, excluding the last three digits in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov, (866) 208-3676 (toll free), or (202) 502-8659 (TTY).

n. The licensee states its unequivocal intent to submit an application for a subsequent license for Project No. 7883. Pursuant to 18 CFR 16.20, each application for a subsequent license and any competing license applications must be filed with the Commission at least 24 months prior to the expiration of the existing license. All applications for license for this project must be filed by September 30, 2023.

o. Register online at https://ferconline.ferc.gov/FERCOnline.aspx to be notified via email of new filings and issuances related to this or other pending projects. For assistance, contact FERC Online Support.

Dated: December 23, 2020.
Nathaniel J. Davis, Sr.,
Deputy Secretary.

[FR Doc. 2020-28969 Filed 12-30-20; 8:45 am]

BILLING CODE 6717-01-P